DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date(s) of Meeting: 7-8 December 2005.

Time(s) of Meeting: 0700-1700, 7 December 2005, 0700-1700, 8 December 2005.

Place: Defense Acquisition University, Ft. Belvoir, Virginia.

1. Agenda: The Army Science Board FY06 Studies, will be holding a plenary meeting on 7 & 8 December 2005. The meeting will be held at the Defense Acquisition University in Ft. Belvoir, VA. The meeting will begin at 0700 hrs on the 7th and will end at approximately 1700 hrs on the 8th. For further information regarding ASB Force Aerial Systems Capability, please contact Mrs. Melanie McAnney by e-mail at melanie.mcanney@hqda.army.mil or call (703)-604-7479.

Wayne Joyner,
Program Support Specialist, Army Science Board.

[FR Doc. 05-24114 Filed 12-15-05; 8:45 am]

BILLING CODE 3710-08-M